DEPARTMENT OF ENERGY

Federal Energy Regulatory Commission

[Docket No. RP01-350-007]

Colorado Interstate Gas Company; Notice of Compliance Filing

January 2, 2002.

Take notice that on December 20, 2001, Colorado Interstate Gas Company (CIG) tendered for filing as part of its FERC Gas Tariff, First Revised Volume No. 1, the tariff sheets listed in Appendices A, B and C to the filing, to become effective October 1, 2001.

CIG states that the tariff sheets are being filed in compliance with the Commission's November 20, 2001 order in this proceeding to revise HEEN service and to re-file certain tariff sheets.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-348 Filed 1-7-02; 8:45 am]

BILLING CODE 6717-01-P